NATIONAL SCIENCE FOUNDATION

Sunshine Act Meeting Notice

Agency Holding Meeting: National Science Foundation, National Science Board.

Date and Time: July 28, 2003: 10:30 a.m.-10:50 a.m., Closed Session. July 28, 2003: 10:50 a.m.-11:30 a.m., Open Session.

Place: The National Science Foundation, 4201 Wilson Boulevard—Room 130, Arlington, VA 22230, www.nsf.gov/nsb.

Contact for Information: Robert Webber (703) 292-7000.

Status: Part of this meeting will be closed to the public. Part of this meeting will be open to the public.

Matters to Be Considered: Teleconference of the NSB Committee on Strategy and Budget.

Closed: 10:30-10:50 a.m.—Update on the development of the FY 2005 budget.

Open: 10:50-11:30—Summary of input from the public and changes to be made to the draft strategic plan.

11:10-11:30—Planning of the August CSB meeting.

Robert Webber,
Policy Analyst, NSBO.

[FR Doc. 03-17586 Filed 7-8-03; 11:20 am]

BILLING CODE 7555-01-M